DEPARTMENT OF THE INTERIOR

Bureau of Land Management

[ID-070-1150-PG]

Notice of Public Meeting, Upper Snake River Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Snake River Resource Advisory Council (RAC), will meet as indicated below.

DATES: The meeting will be held September 8-9, 2004 at the BLM Fire Warehouse, 3630 Overland Road in Burley, Idaho. The meeting will start September 8 at 2 p.m., with the public comment period at the start of the meeting. The meeting will adjourn on September 9 at or before 5 p.m.

SUPPLEMENTARY INFORMATION: The 15-member Council advises the Secretary of the Interior, through the Bureau of Land Management, on a variety of planning and management issues associated with public land management in the BLM Upper Snake River District (USRD), which covers south-central and southeast Idaho. At this meeting, topics we plan to discuss include:

Idaho Department of Fish & Game's process for proposed Comprehensive Wildlife Conservation Strategy.

An update on the Craters of the Moon National Monument and Preserve Draft Management Plan and EIS, including a review of comments received on the Draft EIS.

September 9 will include a day-long float trip of the South Fork of the Snake River. Members of the general public wishing to participate should provide their own float transportation and lunch. Logistics of the trip will be announced at the start of the meeting September 8.

RAC Administrative Procedures.

Other items of interest raised by the Council.

All meetings are open to the public. The public may present written comments to the Council. Each formal Council meeting has time allocated for hearing public comments. Depending on the number of persons wishing to comment and time available, the time for individual oral comments may be limited. Individuals who plan to attend and need special assistance, such as sign language interpretation, tour transportation or other reasonable accommodations, should contact the BLM as provided below.

This will be the final meeting of the Upper Snake River District RAC. After October 1, the RAC will be split into two separate FACA-chartered RACs, one each for the new BLM Idaho Falls District and the Twin Falls District. The new RACs will each meet next on November 9 and 10, 2004; the Idaho Falls District RAC will meet on this date in Idaho Falls, Idaho, and the Twin Falls District RAC will meet on this date in Jerome, Idaho. The exact location of these meetings will be announced through press releases to local media.

FOR FURTHER INFORMATION CONTACT: David Howell, RAC Coordinator, Upper Snake River District, 1405 Hollipark Dr., Idaho Falls, ID 83401. Telephone (208) 524-7559.

Dated: July 28, 2004.
Joe Kraayenbrink,
District Manager.

[FR Doc. 04-17622 Filed 8-2-04; 8:45 am]

BILLING CODE 4310-GG-P